DEPARTMENT OF HEALTH AND HUMAN SERVICES

Centers for Disease Control and Prevention

[60-Day-12-12QP]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Kimberly S. Lane, CDC Reports Clearance Officer, 1600 Clifton Road MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Development of an Evaluation Plan to Evaluate Grantee Attainment of Selected Activities of Comprehensive Cancer Control Priorities—New—National Center for Chronic Disease Prevention and Health Promotion (NCCDPHP), Centers for Disease Control and Prevention (CDC).

Background and Brief Description

Comprehensive Cancer Control (CCC) is a collaborative process through which a community and its partners pool resources to reduce the burden of cancer. The concept is built on the premise that effective cancer prevention and control planning should address the cancer continuum (defined as prevention, diagnosis, treatment, survivorship, and palliative care), and include: The integration of many disciplines, major cancers, all populations, all geographic areas, a diverse group of stakeholders who must coordinate their efforts to assess and address the cancer burden in a jurisdiction. The National Comprehensive Cancer Control Program (NCCCP) is administered by the Centers for Disease Control and Prevention, National Center for Chronic Disease Prevention and Health Promotion, Division of Cancer Prevention and Control (DCPC). Through NCCCP, CDC supports sixty-nine comprehensive cancer control programs in 50 states, the District of Columbia, seven tribes and tribal organizations, and seven U.S. Associated Pacific Islands/territories with a goal of establishing coalitions, assessing the burden of cancer, determining intervention priorities, and developing and implementing CCC plans. The NCCCP is authorized under sections 317(k)(2) and (e) of the Public Health Service Act (42 U.S.C. section 247b[e] and [k][2]).

In 2009 and 2010, CDC developed six priorities to guide the work of grantees of the CDC-funded National Comprehensive Cancer Control Program: (1) Emphasize primary prevention of cancer; (2) support early detection and treatment activities; (3) address public health needs of cancer survivors; (4) implement policies, systems, and environmental changes to guide sustainable cancer control; (5) promote health equity as it relates to cancer control; and (6) demonstrate outcomes through evaluation. In the summer of 2010, the six priorities were shared with the CCC program directors, and they were asked to integrate and emphasize the priorities in their updated cancer plans. The six priorities were also incorporated in the new five-year coordinated cooperative agreement, Cancer Prevention and Control Programs for State, Territorial and Tribal Organizations.

CDC is requesting information needed to (1) evaluate the extent to which CCC programs are implementing the six NCCCP priorities, and (2) evaluate existing evaluation capacity building tools and revise tools as needed to support the implementation of NCCCP priorities. The information collection will include a web-based survey of NCCCP grantee program directors, as well as multiple focus groups with NCCCP grantee program directors and evaluators.

The planned information collection activities are designed to address specific evaluation questions, including: What factors facilitate implementation of the NCCCP priorities?; What common barriers do grantees experience in efforts to implement the NCCCP priorities?; How has CDC supported grantee efforts to implement the NCCCP priorities?; and What additional resources are needed to support grantees' efforts to implement the NCCCP priorities?

CDC plans to conduct a web survey of all 69 NCCCP grantee program directors from the 50 states, the District of Columbia, seven tribes and tribal organizations, and seven U.S. Associated Pacific Islands/territories. The survey will include questions that address both evaluation focus areas: (1) NCCCP priorities and (2) CCCB capacity building tools. The program directors will be asked to provide information about the utilization and usefulness of the Comprehensive Cancer Control Branch (CCCB) Program Evaluation Toolkit, a capacity building tool developed and disseminated to NCCCP grantees in 2010. Program directors will also be asked to provide information about their efforts to implement the NCCCP priorities. The estimated burden per response is 30 minutes.

As part of the NCCCP evaluation, up to four focus groups will be conducted with a maximum of 10 respondents per group. Focus groups may include NCCCP program directors, designated NCCCP staff members, and stakeholders, such as program evaluators and coalition leaders. The purpose of the focus groups is to gather more in-depth information about ways in which CCCB capacity building tools can be improved to better support implementation of the NCCCP priorities. The estimated burden per response is 90 minutes.

The planned survey and focus groups are key components of CDC's evaluation of the extent to which grantees are implementing NCCCP priorities, as well as the extent to which selected CDC capacity building tools support implementation of the priorities. Information to be collected will inform the development of technical assistance for NCCCP grantees and enhancements to existing capacity building tools. OMB approval is requested for one year. Participation is voluntary and there are no costs to the respondents other than their time.

Estimated Annualized Burden Hours
Type of respondent | Form name | Number of respondents | Number of responses per respondent | Average burden per response (in hr) | Total burden (in hr)
NCCCP State Grantee Program Director | CCC Web Survey | 69 | 1 | 30/60 | 35
NCCCP State Grantee Program Project Director or Designated CCC Staff Member | CCC Focus Group | 40 | 1 | 1.5 | 60
Total |  |  |  |  | 95

Dated: August 2, 2012.
Ron A. Otten,
Director, Office of Scientific Integrity (OSI), Office of the Associate Director for Science (OADS), Office of the Director, Centers for Disease Control and Prevention.

[FR Doc. 2012-19390 Filed 8-7-12; 8:45 am]

BILLING CODE 4163-18-P